INTERNATIONAL TRADE COMMISSION

[Investigation No. 337-TA-999]

Certain Air Mattress Bed Systems and Components Thereof Commission Determination Not to Review Two Initial Determinations Terminating the Investigation Based Upon a Consent Order Stipulation and Proposed Consent Order, a Settlement Agreement, and a Withdrawal of the Complaint; Issuance of a Consent Order; Termination of the Investigation

AGENCY: U.S. International Trade Commission.

ACTION: Notice.

SUMMARY: Notice is hereby given that the U.S. International Trade Commission has determined not to review two initial determinations (“IDs”) (Order Nos. 9 and 10) of the presiding administrative law judge (“ALJ”) terminating the above-captioned investigation based upon a consent order stipulation and proposed consent order, a settlement agreement, and a withdrawal of the complaint. The Commission has also determined to issue the consent order. The investigation is terminated.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 23, 2016, based on a complaint filed by Select Comfort Corporation of Minneapolis, Minnesota; and Select Comfort SC Corporation of Greenville, South Carolina (together, “Select Comfort”). 81 FR 32344-45. The complaint alleges a violation of section 337 of the Tariff Act of 1930, as amended, 19 U.S.C. 1337, based on infringement of U.S. Patent Nos. 6,804,848 (“the '848 patent”) and 7,389,554 (“the '554 patent”) by respondents Elements of Rest Inc. of Atlanta, Georgia, and Responsive Surface Technology LLC of Atlanta, Georgia (together, “ReST”); and American National Manufacturing Inc. of Corona, California, and Dires LLC d/b/a Personal Comfort Bed of Orlando, Florida (together, “ANM”). Id. The Office of Unfair Import Investigations is not a party to the investigation. Id. at 32345.

On November 4, 2016, Select Comfort and ReST filed a joint motion to terminate the investigation with respect to ReST's alleged infringement of the '554 patent based on a consent order stipulation and proposed consent order. No party responded to the motion. On November 18, 2016, the ALJ issued an ID (Order No. 9) granting the motion.

Also on November 4, 2016, Select Comfort moved to terminate the investigation in its entirety. Specifically, Select Comfort moved to terminate the investigation with respect to ReST's alleged infringement of the '848 patent based on a settlement agreement, and to terminate the investigation with respect to ANM based on a withdrawal of the complaint. On November 9, 2016, ANM opposed its termination from the investigation. On November 18, 2016, the ALJ issued an ID (Order No. 10) granting the motion.

No petitions for review of either ID were received.

The Commission has determined not to review either ID, and to issue the consent order. The investigation is terminated in its entirety.

The authority for the Commission's determination is contained in section 337 of the Tariff Act of 1930, as amended, 19 U.S.C. 1337, and in part 210 of the Commission's Rules of Practice and Procedure, 19 CFR part 210.

By order of the Commission.
Issued: December 9, 2016.
Lisa R. Barton,
Secretary to the Commission.

[FR Doc. 2016-30093 Filed 12-14-16; 8:45 am]

BILLING CODE 7020-02-P